DEPARTMENT OF AGRICULTURE

Forest Service

36 CFR Part 251

Correcting Amendments

AGENCY: Forest Service, USDA.

ACTION: Correcting amendments.

SUMMARY: This document contains corrections to the final rule governing the Forest Service's Special Use Program that was published in the Federal Register on December 24, 2009 (74 FR 68379). These corrections add phrases which were inadvertently omitted from the final rule and which are necessary to reflect properly the Forest Service's authority to revoke or suspend special use authorizations under the Federal Land Policy and Management Act.

DATES: Effective on March 26, 2010.

FOR FURTHER INFORMATION CONTACT: Julett Denton, Lands Special Uses Program Manager, (202) 205-1256.

SUPPLEMENTARY INFORMATION: In 36 CFR 251.60(a)(2)(i) and (ii), governing revocation and suspension of special use authorizations, the phrase “§ 251.53(e) and (1)” is replaced with “§ 251.53(e) or an easement issued under § 251.53(l).” In 36 CFR 251.60(g), also governing revocation and suspension of special use authorizations, “§ 251.53(e) and (l)” is replaced with “§ 251.53(e) or easements issued under § 251.53(l).” These corrections are necessary to continue to reflect that only revocation or suspension of an easement, not a permit, is subject to formal administrative proceedings under the Federal Land Policy and Management Act.

List of Subjects in 36 CFR Part 251

Administrative practice and procedure, Electric power, National forests, Public lands--rights-of-way, Reporting and recordkeeping requirements, Water resources.

Accordingly, 36 CFR part 251 is corrected to read as follows:

PART 251—LAND USES

Subpart B—Special Uses

1. The authority citation for part 251 continues to read as follow:

Authority: 7 U.S.C. 1011; 16 U.S.C. 518, 551, 678a; Pub. L. 76-867, 54 Stat. 1197.

2. In § 251.60, revise paragraphs (a)(2)(i), (a)(2)(ii), and (g) to read as follows:

* * * * *

§ 251.60 Termination, revocation, and suspension.

(a) * * *

(2) All other special uses—(i) Revocation or suspension. An authorized officer may revoke or suspend a special use authorization for all other special uses, except a permit or an easement issued pursuant to § 251.53(e) or an easement issued under § 251.53(l) of this subpart:

(ii) Administrative review. Except for revocation or suspension of a permit or an easement issued pursuant to § 251.53(e) or an easement issued under § 251.53(l) of this subpart, suspension or revocation of a special use authorization under this paragraph is subject to administrative appeal in accordance with 36 CFR part 251, subpart C, of this chapter.

* * * * *

(g) The authorized officer may suspend or revoke permits or easements issued under § 251.53(e) or easements issued under § 251.53(l) of this subpart under the Rules of Practice Governing Formal Adjudicatory Administrative Proceedings instituted by the Secretary under 7 CFR 1.130 through 1.151.

Dated: March 20, 2010.
Hank Kashdan,
Associate Chief.

[FR Doc. 2010-6630 Filed 3-25-10; 8:45 am]

BILLING CODE 3410-11-P